DEPARTMENT OF TRANSPORTATION

Federal Aviation Administration

14 CFR Part 71

[Docket No. FAA-2015-7492; Airspace Docket No. 15-AGL-27]

Amendment of Class E Airspace; Rapid City, SD

AGENCY: Federal Aviation Administration (FAA), DOT.

ACTION: Final rule; correction.

SUMMARY: This correction amends the final rule published in the Federal Register of February 4, 2016 amending Class E airspace area at Rapid City Regional Airport, Rapid City, SD. This correction adds part-time Notice to Airmen (NOTAM) language to the Class E surface area description for the airport.

DATES: Effective 0901 UTC, April 5, 2016. The compliance date for this rule is March 31, 2016. The Director of the Federal Register approves this incorporation by reference action under Title 1, Code of Federal Regulations, part 51, subject to the annual revision of FAA Order 7400.9 and publication of conforming amendments.

FOR FURTHER INFORMATION CONTACT: Jeffrey Claypool, Federal Aviation Administration, Operations Support Group, Central Service Center, 10101 Hillwood Parkway, Fort Worth, TX, 76177; telephone (817) 222-5711.

SUPPLEMENTARY INFORMATION:

History

The Federal Register published a final rule amending Class E airspace at Rapid City Regional Airport, Rapid City, SD, (81 FR 5905, February 4, 2016) Docket No. FAA-2015-7492. Subsequent to publication, the FAA determined that the part-time NOTAM language in the Class E surface area description was inadvertently removed in error. Potential safety concerns were identified due to the possibility for confusion in determining the operating rules and equipment requirements in the Rapid City Regional Airport terminal area. The concerns were based on the opportunity for part-time Class D surface area airspace and continuous Class E surface area airspace to be active at the same time.

To resolve these concerns, the FAA is keeping the part-time NOTAM language in the Class E surface area description to retain it as part-time airspace supplementing the existing part-time Class D surface area airspace at Rapid City Regional Airport. The regulatory text is rewritten for clarity.

Correction to Final Rule

Accordingly, pursuant to the authority delegated to me, in the Federal Register of February 4, 2016 (81 FR 5905) FR Doc. 2016-02037, Amendment of Class E Airspace; Rapid City, SD, is corrected as follows:

§ 71.1 [Amended]

On page 5906, column 1, beginning on line 27, remove the following text:

“Within a 4.4-mile radius of the Rapid City Regional Airport, excluding the portion north of a line between the intersection of the Rapid City Regional Airport 4.4-mile radius and the Ellsworth AFB 4.7-mile radius, and that airspace extending upward from the surface within 2.6 miles each side of the Rapid City VORTAC 155°/335°. radials extending from the 4.4-mile radius of the Rapid City Regional Airport to 7 miles southeast of the VORTAC, excluding that airspace within the Rapid City, SD, Class D airspace area.”

And add in its place:

“Within a 4.4-mile radius of the Rapid City Regional Airport, excluding the portion north of a line between the intersection of the Rapid City Regional Airport 4.4-mile radius and the Ellsworth AFB 4.7-mile radius, and that airspace extending upward from the surface within 2.6 miles each side of the Rapid City VORTAC 155°/335°. radials extending from the 4.4-mile radius of the Rapid City Regional Airport to 7 miles southeast of the VORTAC, excluding that airspace within the Rapid City, SD, Class D airspace area. This Class E airspace area is effective during the specific dates and times established in advance by Notice to Airmen. The effective date and time will thereafter be continuously published in the Airport/Facility Directory.”

Issued in Fort Worth, Texas, on March 28, 2016.
Robert W. Beck,
Manager, Operations Support Group, ATO Central Service Center.

[FR Doc. 2016-07715 Filed 3-31-16; 4:15 pm]

BILLING CODE 4910-13-P